DEPARTMENT OF EDUCATION

34 CFR Chapter III

[CFDA Number: 84.373Y]

Final Priority; Technical Assistance To Improve State Data Capacity—National Technical Assistance Center To Improve State Capacity To Accurately Collect and Report IDEA Data

AGENCY: Office of Special Education and Rehabilitative Services, Department of Education.

ACTION: Final priority.

SUMMARY: The Assistant Secretary for Special Education and Rehabilitative Services announces a priority under the Technical Assistance to Improve State Data Capacity program. The Assistant Secretary may use this priority for competitions in fiscal year (FY) 2013 and later years. We take this action to focus attention on an identified national need to provide technical assistance (TA) to States to improve their capacity to meet the data collection and reporting requirements of the Individuals with Disabilities Education Act (IDEA). We intend this priority to establish a TA center to improve State capacity to accurately collect and report IDEA data (Data Center).

DATES: Effective Date: This priority is effective June 19, 2013.

FOR FURTHER INFORMATION CONTACT: Richelle Davis, U.S. Department of Education, 400 Maryland Avenue SW., Room 4052, Potomac Center Plaza (PCP), Washington, DC 20202-2600. Telephone: (202) 245-7401 or by email: richelle.davis@ed.gov.

If you use a telecommunications device for the deaf (TDD) or a text telephone (TTY), call the Federal Relay Service (FRS), toll free, at 1-800-877-8339.

SUPPLEMENTARY INFORMATION:

Purpose of Program: The purpose of the Technical Assistance on State Data Collection program is to improve the capacity of States to meet their IDEA data collection and reporting requirements under sections 616 and 618 of the IDEA. Funding for the program is authorized under section 611(c)(1) of the IDEA, which gives the Secretary the authority to reserve funds appropriated under section 611 of the IDEA to provide TA authorized under section 616(i) of the IDEA. Section 616(i) requires the Secretary to review the data collection and analysis capacity of States to ensure that data and information determined necessary for implementation of sections 616 and 618 of the IDEA are collected, analyzed, and accurately reported. It also requires the Secretary to provide TA, where needed, to improve the capacity of States to meet the data collection requirements under the IDEA.

Program Authority: 20 U.S.C. 1411(c), 1416(i), and 1418(c).

Applicable Program Regulations: 34 CFR 300.702.

We published a notice of proposed priority for this competition in the Federal Register on August 6, 2012 (77 FR 46658). That notice contained background information and our reasons for proposing this particular priority. Except for minor editorial and technical revisions (noted below), there are no differences between the proposed priority and this final priority. We made these minor technical revisions:

(a) Clarified information in requirement (e)(3) about attendance at Department sponsored data conferences;

(b) Deleted the TA and dissemination activities (c), (j), and part of (m)(2) that were included in the proposed priority as these are Department data review responsibilities (see section 616(i)(1) of the IDEA);

(c) Clarified the required Data Center Web site content and distinguished it from Department data postings in current TA and dissemination activity (f);

(d) Clarified that records of TA activities conducted by the Data Center must be available to the project officer in current TA and dissemination activity (c);

(e) Clarified that the purpose of leadership and coordination activity (a) is to consult with TA recipients and other stakeholders about their TA needs as they relate to the outcomes and activities of the Data Center; and

(f) Added more examples of allowable TA activities, including training for new State IDEA Data Managers, developing white papers and technical briefs, and consulting with IDEA Data Managers and others to identify ways to enhance State data system usability.

Public Comment: In response to our invitation in the notice of proposed priority, eight parties submitted comments on the proposed priority.

We group major issues according to subject. Generally, we do not address technical and other minor changes. In addition, we do not address comments that raised concerns not directly related to the proposed priority.

Analysis of Comments and Changes: An analysis of the comments and of any changes in the priority since publication of the notice of proposed priority follows.

General Comments

Comment: Two commenters agreed that TA is needed to improve State data reporting capacity, and one commenter supported providing TA focused on the use of built-in EDFacts data validation tools to support data quality. One commenter agreed that TA about data management issues relating to protecting privacy, confidentiality, and security of data would be beneficial. None of these comments requested changes.

Discussion: The Office of Special Education Programs (OSEP) appreciates the feedback received from commenters about the need for the Data Center to provide TA to improve the capacity of States to meet the IDEA data reporting requirements.

Changes: None.

Focus TA on Assessment and Discipline Data

Comment: Three commenters agreed with the importance of focusing on assessment and discipline data, and two commenters agreed with the need for TA for addressing issues of data governance and coordination across offices about decisions and actions associated with data collection and reporting. One commenter stated that assessment and discipline data are not problematic in all States and that data errors are a result of the complexity of the Department's data collection and reporting requirements. The commenters did not request changes to the priority.

Discussion: OSEP appreciates the comments affirming that the Data Center's scope of work will address areas in which States have the greatest need for TA. OSEP agrees that assessment and discipline data are not problematic in all States and that it is possible that some of the evident errors in State data arise in the course of complying with IDEA reporting requirements. However, it is the responsibility of each State to submit valid and reliable data to meet IDEA reporting requirements. Changing reporting requirements would require a separate public rulemaking process.

Changes: None.

TA Products and Services To Build Staff Capacity

Comment: Six commenters agreed with the need for TA to build staff capacity to collect, report, and analyze IDEA data. Two commenters specifically requested that new IDEA Data Manager training be included in the priority. One commenter requested that white papers or technical briefs about proposed or current IDEA data collections be included in the priority. Another commenter suggested placing more emphasis on the provision of TA to build local staff capacity, one commenter suggested placing less emphasis on building local staff capacity, and one commenter raised concerns about placing any emphasis on building local staff capacity due to the wide variations in State systems and inherent difficulties in tailoring TA to account for these variations. One commenter suggested that the Data Center assist the Department in changing the data collections rather than provide TA that builds local staff capacity.

Discussion: OSEP agrees that there is a need to build staff capacity to collect, report, and analyze IDEA data. We believe this can be accomplished using a wide range of products (e.g., white papers, technical briefs) and services (e.g., training new State IDEA Data Managers) and by providing TA to staff at all levels of the data collection and reporting system, including local program staff. We believe that providing TA to local staff will improve the quality of State IDEA data, as the majority of data reported under sections 616 and 618 of the IDEA are collected by local programs, local educational agencies (LEAs), and early intervention service (EIS) providers). Because of variations in State data systems, however, we agree that TA provided to local program staff should also include State staff and be tailored to the State context. In addition, under section 616 of the IDEA, States must report to the public on the performance of local programs by posting on the State agency's Web site the performance of each local program as measured against the State's targets for each indicator in the State Performance Plan (SPP) and Annual Performance Report (APR) under section 616(b)(2)(C)(ii)(I) of the IDEA, furthering the need for high-quality local data.

OSEP also understands the desire to change data collection requirements to reduce reporting burden, but the purpose of the Data Center is to provide TA to States to meet IDEA data collection and reporting requirements. The data requirements promote accountability and provide transparency to the public about the use of IDEA funds. Further, changing data requirements would require a separate public rulemaking process, and it is beyond the Data Center's scope of work to provide TA to the Department.

Changes: We have revised the priority to clarify that: training for new State IDEA Data Managers, and development of white papers and technical briefs, would be appropriate TA activities for the Data Center; the scope of work for the Data Center includes support to States to build capacity to collect, report, and analyze IDEA data and does not include support to the Department (which is evident through the deletion of TA and dissemination activities (c), (j), and part of (m)(2) from the proposed priority); and TA provided under the current TA and dissemination activity (c) to local program representatives must also include State staff and be tailored to the State context.

TA as Consultation About Data Systems

Comment: One commenter noted challenges to using the State data system to run data queries but did not recommend any changes to the priority.

Discussion: Data queries are the methods, or codes, to retrieve data from a database. OSEP agrees with the commenter that if it is difficult for State staff to retrieve data from a system, they are less likely to use the data. OSEP believes that it is important to encourage use of data by State staff, because State staff who are using data are more likely to identify and correct errors, thereby improving the quality of the data. The purpose of this priority is to improve State capacity to meet IDEA data collection requirements, including requirements as to quality, validity, and completeness, and, therefore, TA to improve data system usability fits within the priority.

Changes: We have revised the priority to clarify that the Data Center may provide TA to States to identify system usability improvements that increase data use and data quality, provided that such TA activities are linked to improving State capacity to meet IDEA data collection requirements.

TA Through Conference Attendance

Comment: Two commenters suggested that the Data Center provide funding for State IDEA Data Managers to attend national meetings.

Discussion: The purpose of the Data Center is to provide TA to improve the capacity of States to meet the IDEA data collection and reporting requirements. It is beyond the scope of the priority to provide travel support for State IDEA Data Managers to attend conferences.

Changes: None.

Data About Students in One Disability Category

Comment: One commenter expressed concern about the reliability and validity of data collected on children with visual impairments and the effect that inaccurate data may have on providing these students with a free appropriate public education. No changes to the priority were proposed.

Discussion: We understand the importance of reporting accurate data for all students with disabilities, including students with visual impairments. The purpose of the Data Center is to provide TA to build State capacity to meet IDEA data collection and reporting requirements, which includes ensuring the accuracy of data reported about children and students with disabilities in all age ranges and all disability groups.

Changes: None.

Automated Data Validation

Comment: One commenter discussed the need for automated data validation checks in the Department's data collection system (EDFacts).

Discussion: OSEP agrees that automated data validation tools improve the quality of IDEA data. The proposed priority therefore included a requirement for the Data Center to collect recommendations for validation checks that could be added to EDFacts.

Changes: None.

Needs Assessments

Comment: One commenter recommended that the Data Center survey States to determine the need for new TA tools. The commenter recommended that States be involved in developing the TA tools.

Discussion: OSEP agrees with the commenter.

Changes: We have revised the priority to require the Data Center to consult with TA recipients or other informed stakeholders to identify TA needs, including TA products and services.

Data Reporting Requirements, Review, and Posting

Comment: Several commenters suggested ways the Data Center could improve the review and follow-up procedures associated with State-reported IDEA data, including: develop new IDEA data reporting guidance, publish IDEA data on the Data Center's Web site, assist the Department in aligning data reporting requirements across various programs that collect data about students with disabilities, review State-reported IDEA data, and maintain ongoing communication with States on behalf of the Department as follow-up in the data review process.

Discussion: The purpose of the priority is to provide TA to States to improve their capacity to meet IDEA data collection and reporting requirements and not to improve the Department's functions. The recommendations are not within the scope of the priority.

Changes: We have, however, revised the priority to clarify that the scope of work of the new Data Center is to provide TA to States to build their capacity to collect, analyze, and report IDEA data and does not include assisting the Department in reviewing State-reported data, communicating with States on behalf of the Department, or publishing IDEA data on behalf of the Department. As noted above, the changes are evident in the deletion of TA and dissemination activities (c), (j), and part of (m)(2) that were in the proposed priority.

Data Analyses

Comment: One commenter suggested that the Data Center be required to collaborate with EDFacts Partner Support Center to provide feedback to the States about errors or anomalies identified in their IDEA section 618 data.

Discussion: OSEP agrees with the commenter that feedback to States about errors or anomalies in their IDEA section 618 data should be efficient and coordinated. OSEP is working with the EDFacts office to ensure State EDFacts Coordinators and State IDEA Data Managers receive joint communication from the Department, as appropriate. The Data Center will not review IDEA section 618 or APR data on behalf of the Department or provide feedback to the States about the quality of the data on behalf of the Department.

Changes: We have revised the priority by deleting TA and dissemination activity (j) from the proposed priority (which would have established a toll-free number and means of electronic communication between the Data Center and States about IDEA data submissions and IDEA data errors or anomalies).

Final Priority

National Technical Assistance Center To Improve State Capacity To Accurately Collect and Report IDEA Data

The purpose of this priority is to fund a cooperative agreement to support the establishment and operation of a National Technical Assistance Center To Improve State Capacity To Accurately Collect and Report IDEA Data (Data Center). The Data Center will provide TA to improve the capacity of States to meet IDEA data collection and reporting requirements by:

(a) Improving data infrastructure by coordinating and promoting communication and effective data governance strategies among relevant State offices including State educational agencies (SEAs) and State lead agencies, local educational agencies (LEAs), schools, early intervention service (EIS) providers, and TA providers to improve the quality of the IDEA data;

(b) Using results from the Department's auto-generated error reports to communicate with State IDEA Data Managers and other relevant stakeholders in the State (e.g., EDFacts Coordinator) about data that appear to be inaccurate and provide support to the State (as needed) to enhance current State validation procedures to prevent future errors in State-reported IDEA data;

(c) Using the results of the Department's review of State-reported data to help States ensure that data are collected and reported from all programs providing special education and related services within the State;

(d) Addressing personnel training needs by developing effective informational tools (e.g., training modules) and resources (e.g., cross-walk documents about IDEA and non-IDEA data elements) about data collection and reporting requirements that States can use to train personnel in schools, programs, agencies, and districts;

(e) Supporting States in submitting data into EDFacts by coordinating with EDFacts TA providers (i.e., Partner Support Center; see www2.ed.gov/about/inits/ed/edfacts/support.html) about IDEA-specific data reporting requirements and providing EDFacts reports and TA to States to help them improve the accuracy of their IDEA data submissions;

(f) Improving IDEA data validation by using results from data reviews conducted by the Department to work with States to generate tools (e.g., templates of data dashboards) that can be used by States to accurately communicate data to local data-consumer groups (e.g., school boards, the general public) and lead to improvements in the validity and reliability of data required by IDEA; and

(g) Using results from the Department's review of State-reported APR data to provide intensive and individualized TA to improve the accuracy of qualitative information provided in the APR about the State's efforts to improve its implementation of the requirements and purposes of IDEA, and to more accurately target its future improvement activities.

The TA provided by the Data Center must be directed at all relevant parties within a State that can affect the quality of IDEA data and must not be limited to State special education or early intervention offices. The Data Center's TA must primarily target data issues identified through the Department's review of IDEA data. TA needs can also be identified by a State's review of IDEA data or other relevant means, but TA must be based on an identified need related to improving IDEA data accuracy or timeliness. Effectiveness of the Data Center's TA will be demonstrated through changes in a State's capacity to collect and report valid and reliable IDEA data and resolve identified data issues.

Funding for the Data Center is authorized under section 611(c)(1) of the IDEA, which gives the Secretary the authority to reserve funds appropriated under section 611 of the IDEA to provide TA authorized under section 616(i) of the IDEA. Section 616(i) requires the Secretary to review the data collection and analysis capacity of States to ensure that data and information determined necessary for implementation of sections 616 and 618 of the IDEA are collected, analyzed, and accurately reported. It also requires the Secretary to provide TA, where needed, to improve the capacity of States to meet the data collection requirements under the IDEA.

To be considered for funding under this absolute priority, applicants must meet the application requirements contained in this priority. Any project funded under this priority also must meet the programmatic and administrative requirements specified in the priority.

Application Requirements. An applicant must include in its application—

(a) A logic model that depicts, at a minimum, the goals, activities, outputs, and outcomes of the project. A logic model communicates how a project will achieve its outcomes and provides a framework for both the formative and summative evaluations of the project;

Note: The following Web site provides more information on logic models and lists multiple online resources: www.cdc.gov/eval/resources/index.htm;

(b) A plan to implement the activities described in the Project Activities section of this priority;

(c) A plan, linked to the project's logic model, for a formative evaluation of the project's activities. The plan must describe how the formative evaluation will use clear performance objectives to ensure continuous improvement in the operation of the project, including objective measures of progress in implementing the project and ensuring the quality of products and services;

(d) A budget for a summative evaluation to be conducted by an independent third party;

(e) A budget for attendance at the following:

(1) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative;

(2) A three-day project directors' conference in Washington, DC, during each year of the project period;

(3) A three-day data conference up to twice each year in Washington, DC, and planned by the National Center for Education Statistics (NCES) for data professionals from all levels of government to discuss technical and policy issues related to the collection, maintenance, and use of education data, new evidence-based practices related to data, and Department initiatives about data collection and reporting, during each year of the project period;

(4) A one-day intensive review meeting that will be held in Washington, DC, during the last half of the second year of the project period; and

(5) Up to 36 days per year on-site at the Department to participate in meetings about IDEA data; meet with EDFacts staff, as appropriate; conduct conference sessions with program staff from States, LEAs, schools, EIS providers, and other local programs that contribute to the State data system to meet IDEA data collection requirements (e.g., NCES conferences); coordinate TA activities with other Department TA initiatives including, but not limited to, the Privacy TA Center (see www2.ed.gov/policy/gen/guid/ptac/index.html), Statewide Longitudinal Database Systems TA (see http://nces.ed.gov/programs/slds/), Implementation and Support Unit TA (see www2.ed.gov/about/inits/ed/implementation-support-unit/index.html), and EDFacts Partner Support Center (see www2.ed.gov/about/inits/ed/edfacts/support.html); and attend other meetings as requested by OSEP; and

(f) A line item in the budget for an annual set-aside of four percent of the grant amount to support emerging needs that are consistent with the project's activities, as those needs are identified in consultation with OSEP.

Note: With approval from the OSEP project officer, the Data Center must reallocate any remaining funds from this annual set-aside no later than the end of the third quarter of each budget period.

Project Activities. To meet the requirements of this priority, the Data Center, at a minimum, must conduct the following activities:

Technology and Tools

(a) Assist relevant parties in the State in the development of data validation procedures and tools; and

(b) Assist States in creating or enhancing TA tools that build local staff capacity to accurately collect and report data under IDEA Parts B and C that is required to be reported to the Department and the public under sections 616 and 618 of the IDEA (e.g., reviewing current State training efforts and consulting with the SEA or State lead agency about materials and methods to improve efficiency or effectiveness of State training strategies); tools must be designed to improve the capacity of States to meet IDEA data requirements.

TA and Dissemination Activities

(a) Provide TA to State data submitters and local data collectors on various data quality issues; topics must include summaries of data quality issues evident from data reviews that will be primarily conducted by the Department; as appropriate, technology should be used to convey information efficiently and effectively (e.g., webinars);

(b) Develop an agenda for information sessions, which can be conducted at conferences or through webinars, specific to required IDEA data and submit the agenda for approval by OSEP. The purpose of the sessions is to ensure that State IDEA Data Managers have current knowledge and tools to collect, analyze, and accurately report IDEA data to the Department and gain new knowledge and tools that can be used to build data capacity at the local level;

(c) Provide a range of general and targeted TA products and services ¹ on evidence-based practices that result in valid and reliable data and build the capacity of data collectors to collect valid and reliable data (e.g., State IDEA Data Manager training webinars for newly hired staff, white papers, technical briefs, review of data systems for usability improvements); all TA must improve the capacity of States to meet IDEA data requirements; all TA inquiries and responses must be recorded and be accessible to the OSEP project officer;

¹ For information about universal/general, targeted/specialized, and intensive/sustained TA, see https://tacc-epic.s3.amazonaws.com/uploads/site/162/ConceptFrmwrkLModel%2BDefsAug2012.pdf?AWSAccessKeyId=AKIAIMS3GHWZEDKKDRDQ&Expires=1367515628&Signature=80%2FKA2BtZN3JjV1KS2ZIj1xUHhA%3D.

(d) Conduct approximately eight intensive on-site TA visits each year focused on improving the capacity of States to meet IDEA data requirements. Visits should be distributed among Part C and Part B programs based on need and consultation with OSEP. On-site TA visits should be coordinated with other Department on-site visits (e.g., EDFacts, OSEP monitoring), to the extent that coordination will lead to improvements in the collection, analysis, and accurate reporting of IDEA Part B data at the school, LEA, and State levels and of IDEA Part C data by EIS providers and at the EIS program and State levels. All intensive TA visits should include State IDEA Data Managers, EDFacts Coordinators (as appropriate), and other relevant State parties. TA activities should emphasize building staff or data system capacity at State and local levels. Intensive TA may include a broad range of activities to meet the needs of each State. For example, an intensive TA activity may include the review of the data systems used by the State to identify system usability improvements to increase data use and data quality. The TA visits may include local data collectors or reporters, such as representatives from local EIS providers, and must focus on: (1) Resolving an identified data validity issue or system capacity issue; (2) achieving measurable outcomes; and (3) “mapping” the relationship of the data validity issue or system capacity issue with other IDEA data elements that are likely to be affected by the data validity issue or system capacity issue;

(e) Plan and conduct data analytic workshops for local data collectors and reporters, which can be conducted at conferences or through webinars, to improve the capacity of States to meet IDEA data collection requirements. The workshops must target interdisciplinary teams of professionals from a small group of LEAs or EIS providers from each participating State to analyze the validity of data about a targeted issue relevant to infants, toddlers, children, or students with disabilities (e.g., ensuring consistency in data reporting on outcomes in all local programs in the State) and lead to plans that can be used by the EIS providers or LEAs to improve their IDEA data collection and reporting, as well as inform State-level data quality initiatives;

(f) Maintain a Web site that meets government or industry-recognized standards for accessibility and is targeted to local and State data collectors. TA material developed by the Data Center, including the results of analyses conducted to improve State capacity to collect and report IDEA data, may be posted on the Data Center site. Note that the Department will post IDEA section 618 data collection instructions (e.g., EDFacts file specifications) on www.ed.gov/edfacts and will publish IDEA section 618 data on a *.gov Web site (e.g., www.data.gov/education);

(g) Support States in verifying the accuracy and completeness of IDEA data prior to submission to the Department through activities such as data analyses, including ensuring that data are consistent with data about students with disabilities reported in other data collections (e.g., ensure that counts of students with disabilities reported to meet IDEA reporting requirements align appropriately with counts reported for other Federal programs); analytic activities must be linked to improving State capacity to meet the IDEA data collection requirements;

(h) Solicit and compile State recommendations for automated data validation procedures that can be built into EDFacts to support States in submitting accurate data. Examples include business rules that would prevent States from submitting invalid data (e.g., greater than 100 percent of assessment participants scoring proficient) and alerts that would ask the States to verify the accuracy of improbable data prior to completion of the submission (e.g., no data where non-zero counts are expected);

(i) Prepare and disseminate topical reports, documents, and other materials that support States in meeting IDEA data collection and reporting requirements;

(j) Develop guidance documents and tools for States to use to communicate with local data collectors and reporters about new or changing data requirements; the Data Center should communicate with States using current technology; and

(k) Support States in meeting APR submission requirements, including by—

(1) As needed, evaluating sampling plans developed by States to report APR data based on a sample of districts, schools, or EIS providers;

(2) Evaluating the quality, accuracy, and validity of SPP and APR quantitative data; and

(3) Using results from the Department's review of APR data to support States in their analyses of available data so that States can provide accurate qualitative information to the Department about their efforts to meet the requirements and purposes of the IDEA, and to more accurately target future improvement activities in their SPPs and APRs.

Leadership and Coordination Activities

(a) Consult with representatives from State and local educational agencies and State Part C lead agencies and EIS providers; school or district administrators; IDEA data collectors; data system staff responsible for IDEA data quality; data system management or data governance staff; and other consumers of State-reported IDEA data and informed stakeholders, as appropriate, on TA needs of stakeholders as they relate to the activities and outcomes of the Data Center, and provide a list of these representatives to OSEP within eight weeks of receiving its grant award notice. For this purpose, the Data Center may convene meetings, whether in person, by phone, or other means, or may consult with people individually about the activities and outcomes of the Data Center;

(b) Communicate and coordinate, on an ongoing basis, with other Department-funded projects to: (1) Develop products to improve data collection capacity (e.g., What Works Clearinghouse); (2) support State monitoring of IDEA implementation through data use; and (3) develop and disseminate resources about data privacy issues (e.g., Privacy TA Center; see www.ed.gov/ptac); and

(c) Maintain ongoing communication with the OSEP project officer.

Fourth and Fifth Years of the Project

In deciding whether to continue funding the project for the fourth and fifth years, the Secretary will consider the requirements of 34 CFR 75.253(a), and in addition—

(a) The recommendation of a review team consisting of experts selected by the Secretary. This review will be conducted during a one-day intensive meeting in Washington, DC, that will be held during the last half of the second year of the project period;

(b) The timeliness and effectiveness with which all requirements of the negotiated cooperative agreement have been or are being met by the project; and

(c) The quality, relevance, and usefulness of the project's activities and products and the degree to which the project's activities and products have contributed to changed practice and improved State capacity to collect and report high-quality data required under sections 616 and 618 of the IDEA.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements. OSEP is under no obligation to make an award for this priority. The decision to make an award will be based on the quality of applications received and available funding.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles set forth in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities. A Data Center funded under the priority established by this regulatory action will assist States in complying with Federal laws and regulations. Without this regulatory action, the burden of improving State capacity to collect, report, and analyze IDEA data would fall solely on the responsible State and local entities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 15, 2013.
Michael Yudin,
Delegated the authority to perform the functions and duties of the Assistant Secretary for Special Education and Rehabilitative Services.

[FR Doc. 2013-11971 Filed 5-17-13; 8:45 am]

BILLING CODE 4000-01-P